DEPARTMENT OF JUSTICE

Office of Justice Programs

[OJP (OJJDP) Docket No. 1586]

Hearing of the Attorney General's National Task Force on Children Exposed to Violence

AGENCY: Office of Justice Programs (OJP), Justice.

ACTION: Notice of hearing.

SUMMARY: This is an announcement of the fourth hearing of the Attorney General's National Task Force on Children Exposed to Violence (the “task force”). The task force is chartered to provide OJP, a component of the Department of Justice, with valuable advice in the areas of children exposed to violence for the purpose of addressing the epidemic levels of exposure to violence faced by our nation's children. Based on the testimony at four public hearings; comprehensive research; and extensive input from experts, advocates, and impacted families and communities nationwide, the task force will issue a final report to the Attorney General presenting its findings and comprehensive policy recommendations in the fall of 2012.

DATES: The hearing will take place on Monday, April 23; Tuesday, April 24; and Wednesday, April 25, 2012.

ADDRESSES: The hearing will take place at Wayne State University in the Bernath Auditorium on the first floor of the David Adamany Undergraduate Library, 5155 Gullen Mall, Detroit, MI 48202.

FOR FURTHER INFORMATION CONTACT: Will Bronson, Designated Federal Official (DFO), Deputy Associate Administrator, Child Protection Division, Office of Juvenile Justice & Delinquency Prevention, Office of Justice Programs, 810 7th Street NW., Washington, DC 20531. Phone: (202) 305-2427 [note: this is not a toll-free number]; email: willie.bronson@usdoj.gov.

SUPPLEMENTARY INFORMATION: This hearing is being convened to brief the task force members about the issue of children's exposure to violence. The final agenda is subject to adjustment, but it is anticipated that on April 23, there will be an evening session devoted to public testimony. On April 24, there will be a morning and afternoon session, with a break for lunch. The morning session will likely include welcoming remarks, introductions, and panel presentations from invited guests on the impact of children's exposure to violence. The afternoon session will continue with panel presentations from invited guests. April 25 will likely be devoted to a working meeting of task force members.

This meeting is open to the public. Members of the public who wish to attend this meeting must provide photo identification upon entering the hearing facility. Access to the meeting will not be allowed without identification. In order to best prepare for attendees, members of the public who wish to attend this meeting may register with Will Bronson at defendingchildhoodtaskforce@nccdcrc.org in advance of the meeting. Registrations will be accepted on a space available basis. Prior registration is not required to attend this event, but is required for those who wish to provide testimony.

Time for public testimony is scheduled from 5 p.m. to 7 p.m. Eastern on April 23. Public testimony must be provided in person and will be limited to three (3) minutes per witness. Members of the public who wish to provide testimony must register with Will Bronson at defendingchildhoodtaskforce@nccdcrc.org by April 20. Please bring photo identification and allow extra time prior to the meeting. Persons interested in communicating with the task force should submit their written comments to the DFO at defendingchildhoodtaskforce@nccdcrc.org, as the time available will not allow the public to directly address the task force (except as provided above) at the meeting.

Anyone requiring special accommodations should notify Mr. Bronson at least seven (7) days in advance of the meeting.

Catherine Pierce,
Associate Administrator, Office of Justice Programs, Office of Juvenile Justice and Delinquency Prevention, Child Protection Division.

[FR Doc. 2012-8861 Filed 4-11-12; 8:45 am]

BILLING CODE 4410-18-P